DEPARTMENT OF DEFENSE

Department of the Army; Corps of Engineers

Notice of Intent and Notice of Preparation for a Draft Environmental Impact Report and Environmental Impact Statement (EIR/EIS) for a Proposed Flood Reduction Investigation in Yolo County, California

AGENCY: U.S. Army Corps of Engineers, DoD.

ACTION: Notice of intent.

SUMMARY: The action being taken is the development of a joint draft EIS/EIR to identify and assess the significance of potential measures that would reduce flood damages to the city of Woodland, adjacent unincorporated areas, and agricultural lands of Yolo County, and improve the conveyance of the hydraulic system for the Lower Cache Creek area. The intent of the draft EIS/EIR is to describe and evaluate the potential effects of the proposed alternatives on environmental resources in the study area.

FOR FURTHER INFORMATION CONTACT: Questions about the proposed action and draft EIS/EIR can be answered by Patti Johnson at (916) 557-6611 or by mail at U.S. Army Corps of Engineers, Planning Division, ATTN: CESPK-PD-R, 1325 J Street, Sacramento, CA 95814-2922.

SUPPLEMENTARY INFORMATION: 1. Proposed Action.—The Corps in cooperation with the non-Federal sponsors (The Reclamation Board of the State of California and the City of Woodland) is conducting a cost-shared feasibility study on alternative flood damage reduction measures to the city of Woodland, Yolo County, California, adjacent unincorporated areas, and agricultural lands. The study is authorized by section 209 of the Flood Control Act of 1962 (Public Law 87-874). A reconnaissance study of flooding problems in the westside tributaries, including Putah and Cache Creeks, and the Yolo Bypass was conducted in 1993-1994 under the authorization of the Energy and Water Development Appropriations Act of 1993. Information resulting from this reconnaissance report is providing some data for the present feasibility study.

2. Alternatives.—The feasibility study's draft EIS/EIR will address a combination of one or more flood control measures including setback levees along Cache Creek, stream channel improvements, a north Woodland floodway, and a no-action alternative. Mitigation measures for any significant adverse effects on environmental resources will be identified and incorporated into the alternatives in compliance with various Federal and State statutes.

3. Scoping Process.—a. The study plan provides for public scoping, meetings, and comment. The Corps has initiated a process of involving concerned Federal, State, and local agencies and individuals. The City of Woodland Task Force has held periodic public meetings to discuss issues and solicit public comment.

b. Public involvement during the reconnissance phase of the study included the “Notice of Initiation of a Reconnaissance Study, Westside Tributaries to Yolo Bypass, Flood Control Investigation, California,” that was sent to Federal, State, county, and city agencies and other interested groups and individuals in May 1993. The Corps participated in a number of meetings with the Yolo County Board of Supervisors and the Yolo-Solano Flood Control Task Force to brief participants including other public agencies, organizations, and interested individuals on the proposed alternatives. Comments received focused on flooding along Cache Creek, land subsidence, gravel mining, and effects of the alternatives on the Cache Creek Settling Basin. On April 15 and May 6, 1996, the Corps held public workshops in Woodland to present the study result and discuss the procedures to complete the reconnaissance phase and initiate the feasibility phase of the study.

c. Issues that will be analyzed in depth in the draft EIS/EIR include effects on vegetation and wildlife, special-status species, water quality, air quality, socio-economic conditions, and cultural resources. Other issues may include geology, soils, topography, noise, esthetics, climate and recreation.

d. The U.S. Fish and Wildlife Service will provide the Fish and Wildlife Coordination Act Report.

e. A 45-day review period will be allowed for all interested agencies and individuals to review and comment on the draft EIS/EIR. All interested persons are encouraged to respond to this notice and provide a current address if they wish to be contacted about the draft EIS/EIR.

4. A public scoping meeting will be held on May 30, 2000, from 7 p.m. to 9 p.m. at the Heidrick Ag History Center at 1962 Hays Lane in Woodland, Yolo County, California.

5. Availability. The draft EIS/EIR is scheduled to be available for public review in August 2001.

Dated: April 17, 2000.
Robert A. O'Brien III,
LTC, EN, Acting Commander.

[FR Doc. 00-11294 Filed 5-4-00; 8:45 am]

BILLING CODE 3710-EZ-M